FEDERAL COMMUNICATIONS COMMISSION

47 CFR Part 64

[CG Docket No. 03-123, FCC 05-203]

Telecommunications Relay Services and Speech-to-Speech Services for Individuals With Hearing and Speech Disabilities

AGENCY: Federal Communications Commission.

ACTION: Final rule; announcement of effective date.

SUMMARY: In this document, the Commission announces that the Office of Management and Budget (OMB) has approved for three years the information collection requirements contained in the Telecommunications Relay Services (TRS) and Speech-to-Speech Services for Individuals with Hearing and Speech Disabilities, Report and Order, Order on Reconsideration (Report and Order). The Report and Order states that the Commission will publish a document in the Federal Register announcing the effective date of the rules.

DATES: 47 CFR 64.605(a)(2), (c)(2), (e)(2), (f)(2) and (g) published at 70 FR 76208, December 23, 2005 are effective March 15, 2006.

FOR FURTHER INFORMATION CONTACT: Dana Jackson or Thomas Chandler, Consumer & Governmental Affairs Bureau, Disability Rights Office at (202) 418-2517 (voice), (202) 418-7898 (TTY).

SUPPLEMENTARY INFORMATION: This document announces that, on February 21, 2006, OMB approved for three years the information collection requirements contained in 47 CFR 64.605(a)(2), (c)(2), (e)(2), (f)(2) and (g), published at 70 FR 76208 (December 23, 2005). The OMB Control Number is 3060-1047. If you have any comments on these burden estimates, or how the Commission can improve the collections and reduce the burdens caused thereby, please write to Les Smith, Federal Communications Commission, Room 1-A804, 445 12th Street, SW., Washington, DC 20554. Please include the OMB Control Number 3060-1047, in your correspondence. The Commission will also accept your comments via the Internet if you send them to Leslie.Smith@fcc.gov, or call (202) 418-0217. The Report and Order also adopted or modified regulations that do not require OMB approval, and states that such regulations become effective 30 days from the date of publication of the Report and Order, in the Federal Register. See Report and Order at paragraph 37, released December 12, 2005. Accordingly, these modified rules became effective on January 23, 2006. A summary of the Report and Order was published in the Federal Register at 70 FR 76208, December 23, 2005. A copy of the TRS rules, as amended, will appear after that date on the Commission's Web site at: http://www.fcc.gov/cgb/dro/4regs.html.

To request materials in accessible formats for people with disabilities (Braille, large print, electronic files, audio format), send an e-mail to fcc504@fcc.gov or call the Consumer & Governmental Affairs Bureau at (202) 418-0530 (voice), (202) 418-0432 (TTY).

Synopsis

As required by the Paperwork Reduction Act of 1995 (44 U.S.C. 3507), the FCC is notifying the public that it received approval from OMB on February 21, 2006, for the collections of information contained in 47 CFR 64.605(a)(2), (c)(2), (e)(2), (f)(2), and (g). The OMB Control Number is 3060-1047. The annual reporting burden for the collection(s) of information, including the time for gathering and maintaining the collection of information, is estimated to be: 177 respondents, and average of 2 to 5 hours per response per annum, for a total hour burden of 2,554 hours, and no annual cost.

Under 5 CFR 1320, an agency may not conduct or sponsor a collection of information unless it displays a current valid OMB Control Number.

No person shall be subject to any penalty for failing to comply with a collection of information subject to the Paperwork Reduction Act (PRA) that does not display a valid OMB Control Number.

The foregoing notice is required by the Paperwork Reduction Act of 1995, Public Law 104-13, October 1, 1995, 44 U.S.C. 3507.

Federal Communications Commission.
Marlene H. Dortch,
Secretary.

[FR Doc. 06-2247 Filed 3-14-06; 8:45 am]

BILLING CODE 6712-01-P